DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. No. 92-463, 86 Stat. 770) requires that public notice of this meeting be announced in the Federal Register.

DATES: Thursday, December 4, 2008, 9 a.m.-5 p.m.

Friday, December 5, 2008, 8:30 a.m.-4 p.m.

ADDRESSES: Red Lion Hotel, 802 George Washington Way, Richland, Washington 99252, Phone: (509) 946-7611, Fax: (509) 943-8564.

FOR FURTHER INFORMATION CONTACT: Paula Call, Federal Coordinator, Department of Energy Richland Operations Office, 825 Jadwin Avenue, P.O. Box 550, A7-75, Richland, WA 99352; Phone: (509) 376-2048; or e-mail: Paula_K_Call@rl.gov.

SUPPLEMENTARY INFORMATION: Purpose of the Board: The purpose of the Board is to make recommendations to DOE in the areas of environmental restoration, waste management, and related activities.

Tentative Agenda:

• Agency Updates (Department of Energy Office of River Protection and Richland Operations Office; Washington State Department of Ecology; and the U.S. Environmental Protection Agency).

• Update on Tri-Party Agreement negotiations.

• Briefings on new contracts, contractors, and the transition process.

• Discussion on the outcome of the November 19, 2008, Department of Energy. Baseline Workshop.

• Update on the Hanford site-wide safety program.

• Discussion on the outcome of the October 30, 2008, Sing-Shell Tank Integrity Expert Panel managers meeting.

• Hanford Advisory Board member and issue manager training.

• Committee Updates, including: Tank Waste Committee; River and Plateau Committee; Health, Safety and Environmental Protection Committee; Public Involvement Committee; and Budgets and Contracts Committee.

Public Participation: The meeting is open to the public. Written statements may be filed with the Board either before or after the meeting. Individuals who wish to make oral statements pertaining to agenda items should contact Paula Call's office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Paula Call's office at the address or phone number listed above. Minutes will also be available at the following Web site: http://www.hanford.gov/?page=413&parent=397.

Issued at Washington, DC, on November 5, 2008.
Rachel Samuel,
Deputy Committee Management Officer.

[FR Doc. E8-26848 Filed 11-10-08; 8:45 am]

BILLING CODE 6450-01-P